ENVIRONMENTAL PROTECTION AGENCY

40 CFR Part 282

[EPA-R07-UST-2023-0534; FRL-11633-02-R7]

Iowa: Final Approval of State Underground Storage Tank Program Revisions, Codification, and Incorporation by Reference

AGENCY: Environmental Protection Agency (EPA).

ACTION: Direct final rule.

SUMMARY: Pursuant to the Resource Conservation and Recovery Act (RCRA or Act), the Environmental Protection Agency (EPA) is taking direct final action to approve revisions to the State of Iowa's Underground Storage Tank (UST) program submitted by the Department of Natural Resources (DNR). This action also codifies EPA's approval of Iowa's State program and incorporates by reference those provisions of the State regulations that we have determined meet the requirements for approval. The provisions will be subject to EPA's inspection and enforcement authorities under RCRA Subtitle I and other applicable statutory and regulatory provisions.

DATES: This rule is effective December 3, 2024, unless EPA receives adverse comment by November 4, 2024. If EPA receives adverse comments, it will publish a timely withdrawal in the Federal Register informing the public that the rule will not take effect. The incorporation by reference of certain publications listed in the regulations is approved by the Director of the Federal Register, as of December 3, 2024, in accordance with 5 U.S.C. 552(a) and 1 CFR part 51.

ADDRESSES: Submit your comments by one of the following methods:

1. Federal eRulemaking Portal: https://www.regulations.gov. Follow the on-line instructions for submitting comments.

2. Email: pomes.michael@epa.gov.

Instructions: Direct your comments to Docket ID No. EPA-R07-UST-2023-0534. EPA's policy is that all comments received will be included in the public docket without change and may be available online at https://www.regulations.gov, including any personal information provided, unless the comment includes information claimed to be Confidential Business Information (CBI) or other information whose disclosure is restricted by statute. Do not submit information that you consider to be CBI or otherwise protected through https://www.regulations.gov, or email. The Federal https://www.regulations.gov website is an “anonymous access” system, which means the EPA will not know your identity or contact information unless you provide it in the body of your comment. If you send an email comment directly to the EPA without going through https://www.regulations.gov, your email address will be automatically captured and included as part of the comment that is placed in the public docket and made available on the internet. If you submit an electronic comment, EPA recommends that you include your name and other contact information in the body of your comment and also with any disk or CD-ROM you submit. If EPA cannot read your comment due to technical difficulties, and cannot contact you for clarification, EPA may not be able to consider your comment. Electronic files should avoid the use of special characters, any form of encryption, and be free of any defects or viruses. EPA encourages electronic submittals, but if you are unable to submit electronically, please reach out to the EPA contact person listed in the document for assistance.

Docket: All documents in the docket are listed in the https://www.regulations.gov index. Although listed in the index, some information might not be publicly available, e.g., CBI or other information whose disclosure is restricted by statute. Publicly available docket materials are available electronically through www.regulations.gov.

IBR and supporting material: You can view and copy the documents that form the basis for this codification and associated publicly available materials either through www.regulations.gov or by contacting Angela Sena, Tanks, Toxics & Pesticides Branch, Land Chemical, and Redevelopment Division, U.S. Environmental Protection Agency, Region 7, 11201 Renner Boulevard, Lenexa, Kansas 66219; (913) 551-7989; sena.angela@epa.gov. Please call or email the contact listed above if you need access to material indexed but not provided in the docket.

FOR FURTHER INFORMATION CONTACT: Michael L Pomes, Remediation Branch, Land, Chemical, and Redevelopment Division, U.S. Environmental Protection Agency, Region 5, 77 W Jackson Boulevard, Chicago, Illinois 60604; (312) 886-2406; pomes.michael@epa.gov.

SUPPLEMENTARY INFORMATION:

I. Approval of Revisions to Iowa's Underground Storage Tank Program

A. Why are revisions to State programs necessary?

States that have received final approval from the EPA under section 9004(b) of RCRA, 42 U.S.C. 6991c(b), must maintain an underground storage tank program that is equivalent to, consistent with, and no less stringent than the Federal UST program. Either EPA or the approved State may initiate program revision. When EPA makes revisions to the regulations that govern the UST program, States must revise their programs to comply with the updated regulations and submit these revisions to the EPA for approval. Program revision may be necessary when the controlling Federal or State statutory or regulatory authority is modified or when responsibility for the State program is shifted to a new agency or agencies.

B. What decisions has the EPA made in this rule?

On June 22, 2023, in accordance with 40 CFR 281.51(a), Iowa submitted a complete program revision application seeking the EPA approval for its UST program revisions (State Application). Iowa's revisions correspond to the EPA final rule published on July 15, 2015 (80 FR 41566), which revised the 1988 UST regulations and the 1988 State program approval (SPA) regulations (2015 Federal Revisions). As required by 40 CFR 281.20, the State Application contains the following: a transmittal letter requesting approval, a description of the program and operating procedures, a demonstration of the State's procedures to ensure adequate enforcement, a Memorandum of Agreement outlining the roles and responsibilities of the EPA and the implementing agency, a statement of certification from the Attorney General, and copies of all relevant State statutes and regulations. We have reviewed the State Application and determined that the revisions to Iowa's UST program are equivalent to, consistent with, and no less stringent than the corresponding Federal requirements in subpart C of 40 CFR part 281, and that the Iowa program provides for adequate enforcement of compliance (40 CFR 281.11(b)). Therefore, the EPA grants Iowa final approval to operate its UST program with the changes described in the program revision application and as outlined below in section I.G. of this document.

C. What is the effect of this approval decision?

This action does not impose additional requirements on the regulated community because the regulations being approved by this rule are already effective in Iowa and they are not changed by this action. This action merely approves the existing State regulations as meeting the Federal requirements and renders them federally enforceable.

D. Why is EPA using a direct final rule?

EPA is publishing this direct final rule concurrent with a proposed rule because we view this as a noncontroversial action and anticipate no adverse comment. EPA is providing an opportunity for public comment now.

E. What happens if the EPA receives comments that oppose this action?

Along with this direct final rule, the EPA is publishing a separate document in the “Proposed Rules” section of this issue of the Federal Register that serves as the proposal to approve the State's UST program revisions, providing opportunity for public comment. If EPA receives comments that oppose this approval, EPA will withdraw the direct final rule by publishing a document in the Federal Register before the rule becomes effective. The EPA will base any further decision on the approval of the State program changes after considering all comments received during the comment period. EPA will then address all public comments in a later final rule. You may not have another opportunity to comment. If you want to comment on this approval, you must do so at this time.

F. For what has Iowa previously been approved?

On March 7, 1995, the EPA finalized a rule approving the UST program, effective May 8 1995, to operate in lieu of the Federal program. On March 7, 1995, effective May 8, 1995, the EPA codified the approved Iowa program, incorporating by reference the State statutes and regulatory provisions that are subject to EPA's inspection and enforcement authorities under RCRA sections 9005 and 9006, 42 U.S.C. 6991d and 6991e, and other applicable statutory and regulatory provisions.

G. What changes are we approving with this action?

On June 22, 2023, in accordance with 40 CFR 281.51(a), Iowa submitted a complete application for final approval of its UST program revisions adopted on June 23, 2021. The EPA now makes an immediate final decision, subject to receipt of written comments that oppose this action, that Iowa's UST program revisions satisfy all of the requirements necessary to qualify for final approval. Therefore, EPA grants Iowa final approval for the following program changes:

Required Federal element | Implementing State authority
40 CFR 281.30, New UST Systems and Notification | 567 Iowa Admin. Code 135.1(3)(a). IAC 135.1(3)(a) and (4). IAC 135.3(1). IAC 135.3(1)(a), (b), (d), (e). IAC 135.3(1)(c)(1) through (4). IAC 135.3(1)(f)(1) and (4). IAC 135.3(3)(d)(1) through (4). IAC 135.3(9).
40 CFR 281.30, New UST Systems and Notification continued . . . | 567 Iowa Admin. Code 135.4(5)(a)(1) through (6). IAC 135.21(1)(a). IAC 135.21(2)(a).
40 CFR 281.31, Upgrading Existing UST Systems | 567 Iowa Admin. Code 135.1(3)(a). IAC 135.1(3)(a). IAC 135.3(2)(b), (c), (d). IAC 135.21(1)(a). IAC 135.21(2).
40 CFR 281.32, General Operating Requirements | 567 Iowa Admin. Code 135.3(1)(a)(4)(2). IAC 135.3(1)(b). IAC 135.3(1)(c)(4). IAC 135.3(9)(b)(2). IAC 135.4(1). IAC 135.4(2)(a) through (d). IAC 135.4(3). IAC 135.4(3)(a). IAC 135.4(4)(a), (b), (c)(1) and (3), (d), (e), (f). IAC 135.4(4)(h). IAC 135.4(5)(b)(8) and (11). IAC 135.4(5)(b). IAC 135.4(5)(c). IAC 135.4(12). IAC 135.4(12)(c). IAC 135.4(13). IAC 135.4(13)(e). IAC 135.5(6).
40 CFR 281.33, Release Detection | 567 Iowa Admin. Code 135.5(1)(a), through (d). IAC 135.5(2). IAC 135.5(4)(a), (b), (c), (d)(1) through (3), (e)(1) through (7), (f), (g)(1), (g)(2), (h)(1) and (2), (i). IAC 135.5(3). IAC 135.5(5)(a), (b), (c), (d). IAC 135.21(2)(d)(1) and (2). IAC 135.21(2)(d)(3).
40 CFR 281.34, Release Reporting, Investigation, and Confirmation | 567 Iowa Admin. Code 135.4(1)(b). IAC 135.6(1). IAC 135.6(2). IAC 135.6(3)(a). IAC 135.6(4)(a) and (b).
40 CFR 281.35, Release Response and Corrective Action | 567 Iowa Admin. Code 135.7(2). IAC 135.7(3). IAC 135.7(5)(a), (b), (c), (d)(1), (2), (4) through (8).
40 CFR 281.35, Release Response and Corrective Action Continued . . . | 567 Iowa Admin. Code 135.13.
40 CFR 281.36, Out-of-service Systems and Closure | 567 Iowa Admin. Code 135.15(1)(a). IAC 135.15(1)(b)(1), (2), (3), (6). IAC 135.15(1)(c)(2), (3), (6). IAC 135.15(1)(d). IAC 135.15(2)(b) and (c). IAC 135.15(3)(a) and (f). IAC 135.15(5). IAC 135.21(2)(e).
40 CFR 281.37, Financial Responsibility for USTs Containing Petroleum | 567 Iowa Admin. Code 136.4. IAC 136.5 through 136.16. IAC 136.17. IAC 136.18. IAC 136.20. IAC 136.24.
40 CFR 281.39, Operator Training | 567 Iowa Admin. Code 135.4(6)(a), (g), (h). IAC 135.4(8)(a)(1), (10), (11), (13), (15), (17), (19). IAC 135.4(8)(b)(2), (3), (6), (7), (10), (11), (16), (18). IAC 135.4(8)(c), (c)(6) 135.4(10). IAC 135.4(11)(a), (a)(1), (b).
40 CFR 281.41, Legal Authorities for Enforcement Response | Iowa Code 17(A)(19)(10)(f). IC 455B.474(1)(a)(6)(k). IC 455B.476. IC 455B.476(3). IC 455B.477(1). IC 455B.477(2). IC 455B.477(3). IC 455B.477(6). IC 455B.474(8)(b). 567 Iowa Admin. Code 135.3(5)(d). IAC 135.3(8).

The State also demonstrates that its program provides adequate enforcement of compliance as described in 40 CFR 281.11(b) and part 281, subpart D. The Iowa DNR UST Section has broad statutory authority with respect to USTs to regulate installation, operation, maintenance, closure, and UST releases, and to the issuance of orders. These statutory authorities are found in: Code of Iowa Chapter 455B, Jurisdiction of the Department of Natural Resources, Division IV, Solid Waste Disposal, Part 8—Underground Storage Tanks (455B.471 et seq.), and 567 Iowa Administrative Code Chapter 134—Underground Storage Tank Licensing and Certification Programs, Chapter 135—Technical Standards and Corrective Action Requirements for Owners and Operators of Underground Storage Tanks, and Chapter 136—Financial Responsibility for Underground Storage Tanks.

H. Where are the revised rules different from the Federal rules?

Broader in Scope Provisions

The following statutory and regulatory provisions are considered broader in scope than the Federal program, and are therefore not enforceable as a matter of Federal law pursuant to 40 CFR 281.12(a)(3)(ii):

Code of Iowa

Code of Iowa 455B.471(1), (2), (3), (4), (10)

Code of Iowa 455B.472

Code of Iowa 455B.473(4) through (9)

Code of Iowa 455B.473A

Code of Iowa 455B.474

Code of Iowa 455B.474A

Code of Iowa 455B.475

Code of Iowa 455B.476

Code of Iowa 455B.477

Code of Iowa 455B.478

Code of Iowa 455B.479

567 Iowa Administrative Code

Iowa Administrative Code Chapter 134

Iowa Administrative Code Chapter 135.2 definitions not listed in 40 CFR 280.12

Iowa Administrative Code 135.3(1)(c)(5) and (e)(1) and (2)

Iowa Administrative Code 135.3(2)(a)

Iowa Administrative Code 135.3(3)(a), (b), (d)(5) and (6), (g), (j), and (k)

Iowa Administrative Code 135.3(5)

Iowa Administrative Code 135.3(9)(b)(1)(1)

Iowa Administrative Code 135.4(2)(e)

Iowa Administrative Code 135.4(3)(b), (c)

Iowa Administrative Code 135.4(4)(c)(2) and (4)

Iowa Administrative Code 135.4(4)(g) and (i)

Iowa Administrative Code 135.4(5)(a)(7) and (8)

Iowa Administrative Code 135.4(6)(a) through (f)

Iowa Administrative Code 135(4)(7)

Iowa Administrative Code 135.4(8)(a), (a)(4), (5), (7), (8), (9), (14), (16), (18)

Iowa Administrative Code 135.4(8)(b), (b)(4), (5), (8), (9), (12), (13), (14), (17). (19)

Iowa Administrative Code 135.4(8)(c)(1), (2), (3), (4), (5)

Iowa Administrative Code 135.4(9)

Iowa Administrative Code 135.4(11)(a)(2), (c) and (d)

Iowa Administrative Code 135.5(1)(e)

Iowa Administrative Code 135.5(4)(c)

Iowa Administrative Code 135.5(4)(d)(4)

Iowa Administrative Code 135.5(4)(e)(8)

Iowa Administrative Code 135.5(4)(g)(1)(1) through (3)

Iowa Administrative Code 135.5(4)(h)(3)(1) through (3)

Iowa Administrative Code 135.5(4)(h)(4) through (6)

Iowa Administrative Code 135.5(5)(b), (d)(1) and (2)

Iowa Administrative Code 135.6(3)(b)

Iowa Administrative Code 135.7(5)

Iowa Administrative Code 135.7(5) (d)(3), (9), (10), (11)

Iowa Administrative Code 135.7(5) (e), (f), (g)

Iowa Administrative Code 135.8

Iowa Administrative Code 135.9

Iowa Administrative Code 135.10

Iowa Administrative Code 135.11

Iowa Administrative Code 135.12

Iowa Administrative Code 135.14

Iowa Administrative Code 135.15(1)(b)(4) and (5)

Iowa Administrative Code 135.15(1)(c)(1), (4), and (5)

Iowa Administrative Code 135.15(1)(e) and (f)

Iowa Administrative Code 135.15(2), (2)(a) and (d)

Iowa Administrative Code 135.15(3)(a) through (e)

Iowa Administrative Code 135.15(4)

Iowa Administrative Code 135.15(7)

Iowa Administrative Code 135.16

Iowa Administrative Code 135.17

Iowa Administrative Code 135.18

Iowa Administrative Code 135.19

Iowa Administrative Code 135.20

Iowa Administrative Code Chapter 135 Appendices A, B, C, and D

More Stringent Provisions (Give examples):

The following regulatory requirements are considered more stringent than the Federal program, and on approval, they become part of the federally approved program and are federally enforceable pursuant to 40 CFR 281.12(a)(3)(i):

Iowa required the notification for USTs taken out of operation from January 1, 1974, to July 1, 1985, USTs that existed and still in operation on or before July 1, 1985, and those brought into service after July 1, 1985, making them more stringent: Iowa Code 455B.473(1), (2), (3).

Iowa specifically excludes residential septic tanks as being underground storage tanks making them more stringent: Code of Iowa 455B.471(11)(b)(1)(c).

Iowa specifically excluded piping associated with tanks used for storing heating oil for consumptive use on the premises where stored as being underground storage tanks making them more stringent: Code of Iowa 455B.471(11)(b)(2).

Farm and residential tanks installed in Iowa after July 1, 1987, are subject to the requirements of 567 Iowa Admin. Code Chapters 135 and 136 making them more stringent: IAC 135.2 and 136.1(4).

Iowa specifies when under dispenser containment must be installed depending on what dispensing equipment is installed or replaced, what connections are made to the dispensers, and whether or not replaced or new piping is within 10 feet given dispensers making them more stringent: IAC 135.3(1)(f)(2) and (3).

Iowa requires that owners must have tank tags affixed to the fill pipe in order to receive deliveries of product into the USTs they own making them more stringent: IAC 135.3(3)(c).

Iowa requires that a person installing an underground storage tank and the owner or operator of the underground storage tank must notify the department of their intent to install the tank 30 days prior to installation making them more stringent: IAC 135.3(3)(h).

Iowa specifies the codes of practice to be discussed during UST Operator training making them more stringent: IAC 135.4(6)(a)(2), (3); IAC 135.4(8)(a)(2); IAC 135.4(8)(b)(1).

Iowa requires that C UST Operator be retrained in 15 days making them more stringent: IAC 135.4(6)(i).

Iowa specifies what financial responsibility topics must be covered during Class A UST Operator Training making them more stringent: IAC 135.4(8)(a)(12).

Iowa specifies the types of methods used for monitoring containment spaces, how often the monitoring is done, and containment should be kept free of liquid or debris that would affect the monitoring making them more stringent: 135.5(5)(d).

Iowa requires a 60-day timeframe for implementing and installing free product recovery system approved by the department making them more stringent: IAC 135.7(5)(e).

Iowa sets requirements for returning a UST to service after an extended period of temporary closure making them more stringent: IAC 135.15(1)(f).

Iowa requires department approval for removals undertaken with less than 30 days of notice making them more stringent: IAC 135.15(2)(a).

Iowa requires that department receives notice of bankruptcy within 10 days making them more stringent: IAC 136.23(3).

II. Codification

A. What is codification?

Codification is the process of placing a State's statutes and regulations that comprise the State's approved UST program into the CFR. Section 9004(b) of RCRA, as amended, allows the EPA to approve State UST programs to operate in lieu of the Federal program. The EPA codifies its authorization of State programs in 40 CFR part 282 and incorporates by reference State statutes and regulations that the EPA will enforce under sections 9005 and 9006 of RCRA and any other applicable State provisions. The incorporation by reference of State authorized programs in the CFR should substantially enhance the public's ability to discern the current status of the approved State program and State requirements that can be federally enforced. This effort provides clear notice to the public of the scope of the approved program in each State.

B. What is the history of codification of Iowa's UST program?

EPA incorporated by reference the Iowa DNR approved UST program effective May 8, 1995 (60 FR 12631, March 7, 1995). In this document, EPA is revising 40 CFR 282.65 to include the approved revisions.

C. What codification decisions have we made in this rule?

Incorporation by reference: In this rule, we are finalizing regulatory text that includes incorporation by reference. In accordance with the requirements of 1 CFR 51.5, we are finalizing the incorporation by reference of the federally approved Iowa UST program described in the amendments to 40 CFR part 282 set forth below. The EPA has made, and will continue to make, this document generally available through www.regulations.gov or by contacting the EPA Region 5 contact listed in the ADDRESSES section of this preamble.

The purpose of this Federal Register document is to codify Iowa's approved UST program. The codification reflects the State program that would be in effect at the time EPA's approved revisions to the Iowa UST program addressed in this direct final rule become final. The document incorporates by reference Iowa's UST statutes and regulations and clarifies which of these provisions are included in the approved and federally enforceable program. By codifying the approved Iowa program and by amending the CFR, the public will more easily be able to discern the status of the federally-approved requirements of the Iowa program.

EPA is incorporating by reference the Iowa approved UST program in 40 CFR 282.65. Section 282.65(d)(1)(i) incorporates by reference for enforcement purposes the State's statutes and regulations.

Section 282.65 also references the Attorney General's Statement, Demonstration of Adequate Enforcement Procedures, the Program Description, and the Memorandum of Agreement, which are approved as part of the UST program under Subtitle I of RCRA. These documents are not incorporated by reference.

D. What is the effect of Iowa's codification on enforcement?

The EPA retains the authority under sections 9005 and 9006 of Subtitle I of RCRA, 42 U.S.C. 6991d and 6991e, and other applicable statutory and regulatory provisions to undertake inspections and enforcement actions and to issue orders in approved States. With respect to these actions, EPA will rely on Federal sanctions, Federal inspection authorities, and Federal procedures rather than the State authorized analogues to these provisions. Therefore, the EPA is not incorporating by reference such particular, approved Iowa procedural and enforcement authorities. Section 282.65(d)(1)(ii) of 40 CFR lists those approved Iowa authorities that would fall into this category.

E. What State provisions are not part of the codification?

The public also needs to be aware that some provisions of the State's UST program are not part of the federally approved State program. Such provisions are not part of the RCRA Subtitle I program because they are “broader in scope” than Subtitle I of RCRA. Section 281.12(a)(3)(ii) of 40 CFR states that where an approved State program has provisions that are broader in scope than the Federal program, those provisions are not a part of the federally approved program. As a result, State provisions which are broader in scope than the Federal program are not incorporated by reference for purposes of Federal enforcement in part 282. Section 282.65(d)(1)(iii) lists for reference and clarity the Iowa statutory and regulatory provisions which are broader in scope than the Federal program and which are not, therefore, part of the approved program being codified in this document. Provisions that are broader in scope cannot be enforced by EPA; the State, however, will continue to implement and enforce such provisions under State law.

III. Statutory and Executive Order Reviews

This action only applies to Iowa's UST Program requirements pursuant to RCRA section 9004 and imposes no requirements other than those imposed by State law. It complies with applicable Executive Orders (EOs) and statutory provisions as follows:

Additional information about these statutes and Executive Orders can be found at https://www.epa.gov/laws-regulations/laws-and-executive-orders.

A. Executive Order 12866: Regulatory Planning and Review and Executive Order 14094: Modernizing Regulatory Review

This action is not a significant regulatory action as defined in Executive Order 12866 (58 FR 51735, October 4, 1993), as amended by Executive Order 14094 (88 FR 21879, April 11, 2023), because this action approves and codifies State requirements for the purpose of RCRA section 9004 and imposes no additional requirements beyond those imposed by State law. Therefore, this action was not subject to a requirement for Executive Order 12866 review.

B. Paperwork Reduction Act (PRA)

This rule does not impose an information collection burden under the provisions of the PRA, 44 U.S.C. 3501 et seq. Burden is defined at 5 CFR 1320.3(b).

C. Regulatory Flexibility Act (RFA)

I certify that this action will not have a significant economic impact on a substantial number of small entities under the RFA, 5 U.S.C. 601 et seq., because this action authorizes State requirements pursuant to RCRA section 9004 and imposes no requirements beyond those imposed by State law.

D. Unfunded Mandates Reform Act (UMRA)

This action does not contain any unfunded mandates as described in UMRA, 2 U.S.C. 1501 et seq., and does not significantly or uniquely affect small governments because this action approves and codifies pre-existing requirements under State law and does not impose any additional enforceable duty beyond that required by State law.

E. Executive Order 13175: Consultation and Coordination With Indian Tribal Governments

This action approves and codifies pre-existing requirements under State law and does not impose any additional enforceable duty beyond that required by State law, it does not contain any unfunded mandate or significantly or uniquely affect small governments, as described in the Unfunded Mandates Reform Act of 1995 (2 U.S.C. 1531-1538). For the same reason, this action also does not significantly or uniquely affect the communities of Tribal governments, as specified by Executive Order 13175 (65 FR 67249, November 9, 2000).

F. Executive Order 13132: Federalism

This action will not have substantial direct effects on the States, on the relationship between the national government and the States, or on the distribution of power and responsibilities among the various levels of government, as specified in Executive Order 13132 (64 FR 43255, August 10, 1999), because it merely approves and codifies State requirements as part of the State RCRA underground storage tank program without altering the relationship or the distribution of power and responsibilities established by RCRA.

G. Executive Order 13045: Protection of Children From Environmental Health and Safety Risks

EPA interprets Executive Order 13045 (62 FR 19885, April 23, 1997) as applying only to those regulatory actions that concern environmental health or safety risks that EPA has reason to believe may disproportionately affect children, per the definition of “covered regulatory action” in section 2-202 of the Executive Order. Therefore, this action is not subject to Executive Order 13045 because it approves a State program.

H. Executive Order 13211: Actions That Significantly Affect Energy Supply, Distribution, or Use

This rule is not subject to Executive Order 13211 (66 FR 28355, May 22, 2001) because it is not a “significant regulatory action” as defined under Executive Order 12866.

I. National Technology Transfer and Advancement Act (NTTAA)

Under RCRA section 9004(b), EPA grants a State's application for approval as long as the State meets the criteria required by RCRA. It would thus be inconsistent with applicable law for EPA, when it reviews a State approval application, to require the use of any particular voluntary consensus standard in place of another standard that otherwise satisfies the requirements of RCRA. Thus, the requirements of section 12(d) of the NTTAA, 15 U.S.C. 272 note, do not apply to this action.

J. Executive Order 12898: Federal Actions To Address Environmental Justice in Minority Populations and Low-Income Populations

Executive Order 12898 (59 FR 7629, February 16, 1994) directs Federal agencies, to the greatest extent practicable and permitted by law, to make environmental justice part of their mission by identifying and addressing, as appropriate, disproportionately high and adverse human health or environmental effects of their programs, policies, and activities on minority populations (people of color and/or Indigenous peoples) and low-income populations. Because this action approves pre-existing State rules that are no less stringent than existing Federal requirements and imposes no additional requirements beyond those imposed by State law, and there are no anticipated significant adverse human health or environmental effects, this rule is not subject to Executive Order 12898.

K. Congressional Review Act (CRA)

This action is subject to the CRA, 5 U.S.C. 801 et seq., and EPA will submit a rule report containing this document and other required information to each House of the Congress and the Comptroller General of the United States prior to publication in the Federal Register. A major rule cannot take effect until 60 days after it is published in the Federal Register. This action is not a “major rule” as defined by 5 U.S.C. 804(2). However, this action will be effective December 3, 2024 because it is a direct final rule.

Authority: This rule is issued under the authority of sections 2002(a), 7004(b), and 9004 of the Solid Waste Disposal Act, as amended, 42 U.S.C. 6912, 6991c, 6991d, and 6991e.

List of Subjects in 40 CFR Part 282

Environmental protection, Administrative practice and procedure, Confidential business information, Hazardous substances, Incorporation by reference, Insurance, Intergovernmental relations, Oil pollution, Penalties, Petroleum, Reporting and recordkeeping requirements, Surety bonds, Water pollution control, Water supply.

Dated: September 18, 2024.
Cecilia Tapia,
Acting Deputy Regional Administrator, EPA Region 7.

For the reasons set forth in the preamble, EPA is amending 40 CFR part 282 as follows:

PART 282—APPROVED UNDERGROUND STORAGE TANK PROGRAMS

1. The authority citation for part 282 continues to read as follows:

Authority: 42 U.S.C. 6912, 6991c, 6991d, and 6991e.

2. Revise § 282.65 to read as follows:

§ 282.65 Iowa State-Administered Program.

(a) History of the approval of Iowa's program. The State of Iowa is approved to administer and enforce an underground storage tank program in lieu of the Federal program under Subtitle I of the Resource Conservation and Recovery Act of 1976 (RCRA), as amended, 42 U.S.C. 6991 et seq. The State's program, as administered by the Iowa Department of Natural Resources, was approved by EPA pursuant to 42 U.S.C. 6991c and part 281 of this Chapter. EPA approved the Iowa program on March 7, 1995, and it was effective on May 8, 1995. A subsequent program revision application was approved by EPA and became effective on December 3, 2024.

(b) Enforcement authority. Iowa has primary responsibility for administering and enforcing its federally approved underground storage tank program. However, EPA retains the authority to exercise its inspection and enforcement authorities under sections 9005 and 9006 of Subtitle I of RCRA, 42 U.S.C. 6991d and 6991e, as well as under any other applicable statutory and regulatory provisions.

(c) Retaining program approval. To retain program approval, Iowa must revise its approved program to adopt new changes to the Federal Subtitle I program which makes it more stringent, in accordance with section 9004 of RCRA, 42 U.S.C. 6991c and 40 CFR part 281, subpart E. If Iowa obtains approval for the revised requirements pursuant to section 9004 of RCRA, 42 U.S.C. 6991c, the newly approved statutory and regulatory provisions will be added to this subpart and notice of any change will be published in the Federal Register.

(d) Final program approval. Iowa has final approval for the following elements of its program application originally submitted to EPA and approved on March 7, 1995, and effective May 8, 1995, and the program revision application approved by EPA, effective on December 3, 2024:

(1) State statutes and regulations—(i) Incorporation by reference. The material cited in this paragraph, and listed in Appendix A to Part 282, is incorporated by reference as part of the underground storage tank program under Subtitle I of RCRA, 42 U.S.C. 6991 et seq. (See § 282.2 for incorporation by reference approval and inspection information.) You may obtain copies of the Iowa regulations and statutes that are incorporated by reference in this paragraph from the Iowa Department of Natural Resources website at: https://www.iowadnr.gov/Environmental-Protection/Land-Quality/Underground-Storage-Tanks/UST-LUST-Regulations for 567 Iowa Administrative Code regulations and https://www.legis.iowa.gov/law/administrativeRules/agencies for Code of Iowa statutes or the Iowa Department of Natural Resources, UST Section, 6200 Park Avenue, Suite 200, Des Moines, IA 50321.

(A) EPA-Approved Iowa Regulatory Requirements Applicable to the Underground Storage Tank Program, August 2023.

(B) EPA-Approved Iowa Statutory Requirements Applicable to the Underground Storage Tank Program, December 22, 2023.

(ii) Legal basis. EPA evaluated the following statutes and regulations, which provide the legal basis for the State's implementation of the underground storage tank program, but they are not being incorporated by reference for enforcement purposes and do not replace Federal authorities. Iowa's no less stringent, underground storage tank program compliance criteria is included in their regulations. Iowa includes brief statements in their statutes establishing the authority of the Iowa Department of Natural Resources to create and implement the underground storage tank program. None of these statutes are incorporated by reference.

(A) Code of Iowa 455B.17(A)(19)(10)(f).

(B) Code of Iowa 455B.472, 473A, 474, 474A, 475, 476, 477, 478, 479.

(iii) Provisions not incorporated by reference. The following statutory and regulatory provisions are broader in scope than the Federal program, are not part of the approved program, and are not incorporated by reference in this section for enforcement purposes:

(A) Code of Iowa Chapter 455B, Jurisdiction of the Department of Natural Resources, Division IV, Solid Waste Disposal, Part 8—Underground Storage Tanks Sections: 455B.471(1), (2), (3), (4), (10); 455B.473(4) through (9).

(B) 567 Iowa Administrative Code Chapter 134—Underground Storage Tank Licensing and Certification Programs—entire Chapter.

(C) 567 Iowa Administrative Code Chapter 135—Technical Standards and Corrective Action Requirements for Owners and Operators of Underground Storage Tanks: 135.2 definitions not listed in 40 CFR 280.12; 135.3(1)(c)(5) and (e)(1) and (2); 135.3(2)(a); 135.3(3)(a), (b), (d)(5) and (6), (g), (j), and (k); 135.3(5); 135.3(9)(b)(1)(1); 135.4(2)(e); 135.4(3)(b), (c); 135.4(4)(c)(2) and (4); 135.4(4)(g) and (i); 135.4(5)(a)(7) and (8); 135.4(6)(a) through (f); 135.(4)(7); 135.4(8)(a), (a)(4), (5), (7), (8), (9), (14), (16), (18); 135.4(8)(b), (b)(4), (5), (8), (9), (12), (13), (14), (17). (19); 135.4(8)(c)(1), (2), (3), (4), (5); 135.4(9); 135.4(11)(a)(2), (c) and (d); 135.5(1)(e); 135.5(4)(c); 135.5(4)(d)(4); 135.5(4)(e)(8); 135.5(4)(g)(1)(1) through (3); 135.5(4)(h)(3)(1) through (3); 135.5(4)(h)(4) through (6); 135.5(5)(b), (d)(1) and (2); 135.6(3)(b); 135.7(5); 135.7(5) (d)(3), (9), (10), (11); 135.7(5) (e), (f), (g); 135.8; 135.9; 135.10; 135.11; 135.12; 135.14; 135.15(1)(b)(4) and (5); 135.15(1)(c)(1), (4), and (5); 135.15(1)(e) and (f); 135.15(2), (2)(a) and (d); 135.15(3)(a) through (e); 135.15(4); 135.15(7); 135.16; 135.17; 135.18; 135.19; 135.20; Chapter 135 Appendices A, B, C, and D.

(2) Statement of legal authority. The “Attorney General's Statement Letter”, signed by the Iowa Attorney General on December 22, 1993, and May 9, 2023, though not incorporated by reference, are referenced as part of the approved underground storage tank program under Subtitle I of RCRA, 42 U.S.C. 6991 et seq.

(3) Demonstration of procedures for adequate enforcement. The “Demonstration of Adequate Enforcement Procedures” submitted as part of the original application on March 17, 1994, and as part of the program revision application on June 22, 2023, though not incorporated by reference, is referenced as part of the approved underground storage tank program under Subtitle I of RCRA, 42 U.S.C. 6991 et seq.

(4) Program description. The program description and any other material submitted as part of the original application on March 17, 1994, and as part of the program revision application on June 22, 2023, though not incorporated by reference, are referenced as part of the approved underground storage tank program under Subtitle I of RCRA, 42 U.S.C. 6991 et seq.

(5) Memorandum of Agreement. The Memorandum of Agreement between EPA Region 7 and the Iowa Department of Natural Resources, signed by the EPA Regional Administrator on April 4, 2019, though not incorporated by reference, is referenced as part of the approved underground storage tank program under Subtitle I of RCRA, 42 U.S.C. 6991 et seq.

3. Appendix A to part 282 is amended by revising the entry for “Iowa” to read as follows:

Appendix A to Part 282—State Requirements Incorporated by Reference in Part 282 of the Code of Federal Regulations

* * * * *

Iowa

(a) The statutory provisions include Code of Iowa Chapter 455B, Jurisdiction of the Department of Natural Resources, Division IV, Solid Waste Disposal, Part 8—Underground Storage Tanks (455B.471 et seq.):

455B.471(5), (6), (7), (8), (9), (11)(a) and 11(b) except for as indicated: 471(11)(b)(1)(c)—Iowa specifically excludes residential septic tanks as being underground storage tanks making them more stringent; and 455B.471(11)(b)(2)—Iowa specifically excluded piping associated with tanks used for storing heating oil for consumptive use on the premises where stored as being underground storage tanks making them more stringent.

Iowa Code 455B.473 except for 455B.473(1), (2), (3) Iowa required the notification for USTs taken out of operation from January 1, 1974, to July 1, 1985, USTs that existed and still in operation on or before July 1, 1985, and those brought into service after July 1, 1985, making them more stringent.

(b) The regulatory provisions include 567 Iowa Administrative Chapter 135—Technical Standards and Corrective Action Requirements for Owners and Operators of Underground Storage Tanks and Chapter 136—Financial Responsibility for Underground Storage Tanks:

567 Iowa Administrative Code Chapter 135—Technical Standards and Corrective Action Requirements for Owners and Operators of Underground Storage Tanks

Iowa Administrative Code 135.2 except for the farm and residential tanks of 1100 gallons or less capacity used for storing motor fuel for noncommercial purposes component of the definition of underground storages tanks that requires that such tanks installed in Iowa after July 1, 1987, to be subject to the requirements of 567 Iowa Administrative Code Chapter 135 making them more stringent. All other definitions corresponding to those listed in 40 CFR 280.12 are incorporated by reference.

Iowa Administrative Code 135.1(3)(a), 135.1(3)(a)(4).

Iowa Administrative Code 135.3(1), 135.3(1)(a), 135.3(1)(a)(4)(2), 135.3(1)(b), 135.3(1)(c)(1) through (4), 135.3(1)(d), 135.3(1)(e), 135.3(1)(f)(1) and (4), except for IAC 135.3(1)(f)(2) and (3) language that specifies when under dispenser containment must be installed depending on what dispensing equipment is installed or replaced, what connections are made to the dispensers, and whether or not replaced or new piping is within 10 feet given dispensers making them more stringent.

Iowa Administrative Code 135.3(2)(b), 135.3(2)(c), 135.3(2)(d), except for IAC 135.3(3)(c) language Iowa requiring that owners must have tank tags affixed to the fill pipe in order to receive deliveries of product into the USTs they own making them more stringent.

Iowa Administrative Code 135.3(3)(d)(1) through (4) except for IAC 135.3(3)(h) language requiring that a person installing an underground storage tank and the owner or operator of the underground storage tank must notify the department of their intent to install the tank 30 days prior to installation making them more stringent.

Iowa Administrative Code 135.3(9), 135.3(9)(b)(2).

Iowa Administrative Code 135.4 except for 135.4(6)(a)(2), (3); IAC 135.4(8)(a)(2); IAC 135.4(8)(b)(1) language that specifies the codes of practice to be discussed during UST Operator training making them more stringent.

Iowa Administrative Code 135.4(1), 135.4(1)(b), 135.4(2)(a) through (d), 135.4(3), 135.4(3)(a), 135.4(4)(a), 135.4(4)(b), 135.4(4)(c)(1) and (3), 135.4(4)(d), 135.4(4)(e), 135.4(4)(f), 135.4(4)(h), 135.4(5)(a)(1) through (6), 135.4(5)(b), 135.4(5)(b)(8) and (11), 135.4(5)(c) except for IAC 135.4(6)(i) language requiring that C UST Operator be retrained in 15 days making them more stringent and except for IAC 135.4(8)(a)(12) language Iowa specifying what financial responsibility topics must be covered during Class A UST Operator Training making them more stringent.

Iowa Administrative Code 135.4(12), 135.4(12)(c), 135.4(13), 135.4(13)(e).

Iowa Administrative Code 135.5(1)(a) through (d), 135.5(2), 135.5(3), 135.5(4)(a), 135.5(4)(b), 135.5(4)(c), 135.5(4)(d)(1) through (3), 135.5(4)(e)(1) through (7), 135.5(4)(f), 135.5(4)(g)(1), 135.5(4)(g)(2), 135.5(4)(h)(1) and (2), 135.5(4)(i), 135.5(5)(a), 135.5(5)(b), 135.5(5)(c), 135.5(5)(d), 135.5(6) except for IAC 135.5(5)(d) language specifying the types of methods used for monitoring containment spaces, how often the monitoring is done, and containment should be kept free of liquid or debris that would affect the monitoring making them more stringent.

Iowa Administrative Code 135.6(1), 135.6(2), 135.6(3)(a), 135.6(4)(a) and (b).

Iowa Administrative Code 135.7(2), 135.7(3), 135.7(5)(a), 135.7(5)(b), (c), 135.7(5)(d)(1), 135.7(5)(d)(2), 135.7(5)(d)(4) through (8) except for IAC 135.7(5)(e) language requiring a 60-day timeframe for implementing and installing free product recovery system approved by the department making them more stringent:

Iowa Administrative Code 135.13.

Iowa Administrative Code 135.15(1)(a), 135.15(1)(b)(1), 135.15(1)(b)(2), 135.15(1)(b)(3), 135.15(1)(b)(6), 135.15(1)(c)(2), 135.15(1)(c)(3), 135.15(1)(c)(6), 135.15(1)(d) except for IAC 135.15(1)(f) language setting requirements for returning a UST to service after an extended period of temporary closure making them more stringent.

Iowa Administrative Code 135.15(2)(b) and (c), 135.15(3)(a) and (f), 135.15(5) except for IAC 135.15(2)(a) language requiring department approval for removals undertaken with less than 30 days of notice making them more stringent.

567 Iowa Administrative Code Chapter 136—Financial Responsibility for Underground Storage Tanks

Iowa Administrative Code 136.1 except for 136.1(4) requiring that farm and residential tanks of 1,100 gallons or less capacity used for storing motor fuel for noncommercial purposes installed in Iowa after July 1, 1987, be made subject to the requirements of 567 Iowa Administrative Code Chapter 136 making them more stringent.

Iowa Administrative Code 136.3

Iowa Administrative Code 136.4

Iowa Administrative Code 136.5

Iowa Administrative Code 136.6

Iowa Administrative Code 136.7

Iowa Administrative Code 136.8

Iowa Administrative Code 136.9

Iowa Administrative Code 136.10

Iowa Administrative Code 136.11

Iowa Administrative Code 136.12

Iowa Administrative Code 136.13

Iowa Administrative Code 136.14

Iowa Administrative Code 136.15

Iowa Administrative Code 136.16

Iowa Administrative Code 136.17

Iowa Administrative Code 136.18

Iowa Administrative Code 136.19

Iowa Administrative Code 136.20

Iowa Administrative Code 136.21

Iowa Administrative Code 136.22

Iowa Administrative Code 136.23 except for IAC 136.23(3) language requiring that department receives notice of bankruptcy within 10 days making them more stringent.

Iowa Administrative Code 136.24

* * * * *

[FR Doc. 2024-22912 Filed 10-3-24; 8:45 am]

BILLING CODE 6560-50-P